DEPARTMENT OF COMMERCE

International Trade Administration

(A-823-812)

Initiation of a Changed Circumstances Review of the Antidumping Duty Order on Carbon and Certain Alloy Steel Wire Rod from Ukraine

AGENCY: Import Administration, International Trade Administration, Department of Commerce.

ACTION: Notice of initiation and request for comments.

DATES: April 26, 2005.

SUMMARY: The Department of Commerce is initiating a changed circumstances review in order to determine whether Ukraine should continue to be treated as a non-market economy country for purposes of the antidumping duty law. Written comments (original and six copies) should be sent to Joseph A. Spetrini, Acting Assistant Secretary for Import Administration, U.S. Department of Commerce, Central Records Unit, Room 1870, 14th Street and Constitution Avenue NW, Washington, DC 20230.

FOR FURTHER INFORMATION CONTACT: Lawrence Norton or Shauna Lee-Alaia, Office of Policy, Import Administration, U.S. Department of Commerce, 14th Street and Constitution Avenue, NW, Washington DC, 20230, 202-482-1579 or 202-482-2793, respectively.

SUPPLEMENTARY INFORMATION:

Background

Citing changes that have occurred in Ukraine over the past several years, on April 2, 2005 the Government of Ukraine's Ministry of Economy and European Integration requested that the Department of Commerce conduct a review of Ukraine's status as a non-market economy (“NME”) country within the context of a changed circumstances review of the antidumping duty order on carbon and certain alloy steel wire rod from Ukraine. In response to this request, the Department is initiating a changed circumstances review in order to determine whether Ukraine should continue to be treated as an NME country for purposes of the antidumping law, pursuant to sections 751(b) and 771(18)(C)(ii) of the Tariff Act of 1930, as amended (“the Act”). Specifically, the Department is resuming the review of Ukraine's NME status on which it deferred a decision in 2002. See Antidumping Duty Investigation of Carbon and Certain Alloy Steel Wire Rod from Ukraine; Notice to defer a decision regarding Ukraine's non-market economy status, 67 FR 51536 (August 8, 2002). The Department has treated Ukraine as an NME country in all past antidumping duty investigations and administrative reviews. See, e.g., Final Determination of Sales at Less Than Fair Value: Carbon and Certain Alloy Steel Wire Rod from Ukraine, 67 FR 55785 (August 30, 2002); Final Determination of Sales at Less Than Fair Value: Certain Hot-Rolled Carbon Steel Flat Products from Ukraine, 66 FR 50401 (October 3, 2001); and Final Determination of Sales at Less Than Fair Value: Steel Concrete Reinforcing Bars from Ukraine, 66 FR 1857 (April 11, 2001). A designation as a NME remains in effect until it is revoked by the Department. See section 771(18)(C)(i) of the Act.

Opportunity for Public Comment

As part of this inquiry to determine whether to revoke Ukraine's NME status, the Department is interested in receiving public comment with respect to Ukraine in relation to the factors listed in section 771(18)(B) of the Act, which the Department must take into account in making a market/non-market economy determination:

(i) The extent to which the currency of the foreign country is convertible into the currency of other countries;

(ii) the extent to which wage rates in the foreign country are determined by free bargaining between labor and management;

(iii) the extent to which joint ventures or other investments by firms of other foreign countries are permitted in the foreign country;

(iv) the extent of government ownership or control of the means of production;

(v) the extent of government control over allocation of resources and over price and output decisions of enterprises; and

(vi) such other factors as the administering authority considers appropriate.

Comments--Deadline, Format, and Number of Copies

The deadline for submission of comments will be 45 days after the date of publication of this notice in the Federal Register. Rebuttal comments may be submitted up to 30 days after the date by which initial comments are due. Each person submitting comments should include his or her name and address, and give reasons for any recommendation. To facilitate their consideration by the Department, comments should be submitted in the following format: (1) begin each comment on a separate page; (2) concisely state the issue identified and discussed in the comment and include any supporting documentation in exhibits or appendices; (3) provide a brief summary of the comment (a maximum of three sentences) and label this section “summary of comment"; (4) provide an index or table of contents; and (5) include the case number, A-823-812, in the top right hand corner of the submission.

Persons wishing to comment should file a signed original and six copies of each set of comments by the dates specified above. All comments responding to this notice will be a matter of public record and will be available for public inspection and copying at Import Administration's Central Records Unit, Room B-099, between the hours of 8:30 a.m. and 5 p.m. on business days. The Department requires that comments be submitted in written form. The Department recommends submission of comments in electronic media, preferably in Portable Document Format (PDF), to accompany the required paper copies. Comments filed in electronic form should be submitted on CD-ROM as comments submitted on diskettes are likely to be damaged by postal radiation treatment.

Comments received in electronic form will be made available to the public on the Internet at the Import Administration Web site at the following address: http://ia.ita.doc.gov/.

Any questions concerning file formatting, document conversion, access on the Internet, or other electronic filing issues should be addressed to Andrew Lee Beller, Import Administration Webmaster, at (202) 482-0866, email: webmaster-support@ita.doc.gov.

Hearing

After reviewing all comments and rebuttal comments, the Department will hold a public hearing on the NME country issue if one is requested in the initial or rebuttal comments on this issue by an interested party, as defined by section 771(9) of the Act, or if the Department determines that one is warranted. If the Department holds a hearing, the Department will announce a place and time for that hearing. This determination is issued and published in accordance with sections 751(b) and 771(18)(C)(ii) of the Act.

Dated: April 20, 2005.
Joseph A. Spetrini,
Acting Assistant Secretary for Import Administration.

[FR Doc. E5-1980 Filed 4-26-05; 8:45 am]

BILLING CODE: 3510-DS-S